ENVIRONMENTAL PROTECTION AGENCY

[EPA-HQ-OPP-2006-0222; FRL-7769-2]

Pesticide Program Dialogue Committee Spray Drift Work Group; Notice of Public Meeting

AGENCY: Environmental Protection Agency (EPA).

ACTION: Notice.

SUMMARY: Pursuant to the Federal Advisory Committee Act (Pub. L. 92-463), the U.S. Environmental Protection Agency (EPA) gives notice of a public meeting of the Pesticide Program Dialogue Committee (PPDC) Spray Drift Work Group on March 29 and 30, 2006. An agenda for this meeting is being developed and will be posted on EPA's Web site. The work group is developing input and advice concerning spray drift for EPA's Offices of Water and Pesticide Programs.

DATES: The meeting will be held on Wednesday, March 29 and Thursday, March 30, 2006. The meeting is tentatively scheduled for 9 a.m. to 4:30 p.m. on Wednesday and from 9 a.m. to noon on Thursday; please check the agenda posted on EPA's Web site for any revision to the scheduled times.

ADDRESSES: The meeting will be held in EPA's offices at Crystal Mall #2, 1801 S. Bell Street, Arlington, VA in room 1126 (the “Fishbowl”).

FOR FURTHER INFORMATION CONTACT: Pat Cimino, Office of Pesticide Programs, Environmental Protection Agency, 1200 Pennsylvania Ave., NW., Washington, DC 20460-0001; telephone number (703) 308-9357; fax number (703) 308-4776; e-mail address: cimino.pat@epa.gov.

SUPPLEMENTARY INFORMATION:

I. General Information

A. Does this Action Apply to Me?

This action is directed to the public in general, and may be of particular interest to persons who work in agricultural settings or persons who are concerned about implementation of the Clean Water Act (CWA); the Federal Insecticide, Fungicide, and Rodenticide Act (FIFRA); the Federal Food, Drug, and Cosmetic Act (FFDCA); and the amendments to both of these major pesticide laws by the Food Quality Protection Act (FQPA) of 1996. Potentially affected entities may include, but are not limited to: Farmers and agricultural workers; pesticide industry and trade associations; environmental, consumer, and farm worker groups; pesticide users and growers; pest consultants; State, local and Tribal governments; academia; public health organizations; food processors; and the public. If you have questions regarding the applicability of this action to a particular entity, consult the person listed under FOR FURTHER INFORMATION CONTACT.

B. How Can I Get Copies of this Document and Other Related Information?

1. Docket. EPA has established a docket for this action under Docket identification number EPA-HQ-OPP-2006-0222; FRL-7769-2. Publicly available docket materials are available either electronically at http://www.regulations.gov or in hard copy at the Public Information and Records Integrity Branch (PIRIB), Rm. 119, Crystal Mall #2, 1801 S. Bell St., Arlington, VA. This Docket Facility is open from 8:30 a.m. to 4 p.m., Monday through Friday, excluding legal holidays. The Docket telephone number is (703) 305-5805.

2. Electronic access. You may access this Federal Register document electronically through the EPA Internet under the “Federal Register” listings at http://www.epa.gov/fedrgstr/.

II. Background

The Office of Pesticide Programs is entrusted with responsibility to help ensure the safety of the American food supply, the education and protection from unreasonable risk of those who apply or are exposed to pesticides occupationally or through use of products, and general protection of the environment and special ecosystems from potential risks posed by pesticides.

The Office of Water is responsible for protecting public health by ensuring safe drinking water and for protecting water quality and restoring impaired waterways.

III. How Can I Request to Participate in the Meeting?

PPDC meetings are open to the public and seating is available on a first-come basis. Persons interested in attending do not need to register in advance of the meeting. For information on facilities and services for the handicapped or to request special assistance at the meeting, contact Pat Cimino at the phone number listed under FOR FURTHER INFORMATION CONTACT.

List of Subjects

Environmental protection, Agriculture, Agricultural workers, Chemicals, Foods, Growers, Pesticides and pests, Pesticide applicators, Public health, Risk assessment, Tolerance reassessment, Water quality.

Dated: March 8, 2006.
James Jones,
Director, Office of Pesticide Programs.

[FR Doc. E6-3726 Filed 3-14-06; 8:45 am]

BILLING CODE 6560-50-S